DEPARTMENT OF ENERGY

Federal Energy Regulatory Commission

[Docket No. RP04-274-003]

Kern River Gas Transmission Company; Notice of Motion To Place Suspended Rates and Tariff Sheets Into Effect

October 7, 2004.

Take notice that on October 1, 2004, Kern River Gas Transmission Company (Kern River) tendered for filing as part of its FERC Gas Tariff, Second Revised Volume No. 1, the tariff sheets listed in Appendix A to the filing.

Kern River states that the purpose of this filing is: (1) to comply with the Commission's May 28, 2004 “Order Accepting and Suspending Tariff Sheets Subject to Refund, and Establishing Hearing Procedures” by revising the rates and the Park and Loan revenue sharing provisions proposed in Kern River's April 30, 2004 general rate filing; and (2) to move to place the revised rates into effect.

Kern River states that it has served a copy of this filing upon each person designated on the official service list compiled by the Secretary in this proceeding.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2675 Filed 10-15-04; 8:45 am]

BILLING CODE 6717-01-P